DEPARTMENT OF LABOR

Employment and Training Administration

[TA-W-75,009C]

Amended Certification Regarding Eligibility To Apply for Worker Adjustment Assistance; The UBS Group, a Division of UBS AG, Also Known as UBS Financial Services, Inc. and/or UBS-GLB (Americas), Inc., Formerly Known as Brinson Partners, Inc., Corporate Center Division, Group Technology Infrastructure Services, Infrastructure Service Delivery Compute Investment Bank, Global Asset Management, Formerly Known as Distributed Systems and Storage, Including Workers Throughout the United States Reporting to Jersey City, NJ

In accordance with Section 223 of the Trade Act of 1974, as amended (“Act”), 19 U.S.C. 2273, the Department of Labor issued a Certification of Eligibility to Apply for Worker Adjustment Assistance on February 8, 2010, applicable to workers of The UBS Group, a division of UBS AG, also known as UBS Financial Services, Inc., and/or UBS-GLB (Americas), Inc., Corporate Center Division, Group Technology Infrastructure Services, Distributed Systems and Storage Group, Chicago, Illinois. The workers provide information technology services.

The notice was published in the Federal Register on December 8, 2010 (75 FR 76488).

At the request of the company, the Department reviewed the certification for workers of the subject firm.

New information shows that, due to an organizational change within UBS Services LLC, the unit formerly known as Group Technology Infrastructure Services, Distributed Systems and Storage is currently known as Group Technology Infrastructure Services, Infrastructure Service Delivery Compute Investment Bank, Global Asset Management. Workers of Group Technology Infrastructure Services, Infrastructure Service Delivery Compute Investment Bank, Global Asset Management worked from home offices and remote locations throughout the United States and reported to the Jersey City, New Jersey facility.

Accordingly, the Department is amending this certification to properly reflect this matter.

The intent of the Department's certification is to include all workers of the subject firm who were adversely affected by a shift in information technology services to a foreign country.

The amended notice applicable to TA-W-75,009 is hereby issued as follows:

All workers of UBS Group, a division of UBS AG, also known as UBS Financial Services, Inc., and/or UBS-GLB (Americas), Inc., Corporate Center Division, Group Technology Infrastructure Services, Distributed Systems and Storage Group, Stamford, Connecticut (TA-W-75,009); UBS Group, a division of UBS AG, also known as UBS Financial Services, Inc., and/or UBS-GLB (Americas), Inc., formerly known as Brinson Partners, Inc., Corporate Center Division, Group Technology Infrastructure Services, Distributed Systems and Storage Group, Chicago, Illinois (TA-W-75,009A); and UBS Group, a division of UBS AG, also known as UBS Financial Services, Inc., and/or UBS-GLB (Americas), Inc., Corporate Center Division, Group Technology Infrastructure Services, Distributed Systems and Storage Group, New York, New York (TA-W-75,009B), who became totally or partially separated from employment on or after December 15, 2009, through February 8, 2013, and all workers in the group threatened with total or partial separation from employment on date of certification through two years from the date of certification, are eligible to apply for adjustment assistance under Chapter 2 of Title II of the Trade Act of 1974, as amended.

Signed in Washington, DC, this 8th day of May, 2012.
Del Min Amy Chen,
Certifying Officer, Office of Trade Adjustment Assistance.

[FR Doc. 2012-11815 Filed 5-15-12; 8:45 am]

BILLING CODE 4510-FN-P